DEPARTMENT OF HOMELAND SECURITY

Coast Guard

33 CFR Part 117

[Docket No. USCG-2015-0003]

Drawbridge Operation Regulation; Bonfouca Bayou, Slidell, LA

AGENCY: Coast Guard, DHS.

ACTION: Notice of temporary deviation from regulations.

SUMMARY: The Coast Guard has issued a temporary deviation from the regulation governing the operation of the State Route 433 (SR433) Bridge across Bonfouca Bayou, mile 7.0, at Slidell, St. Tammany Parish, Louisiana. This deviation provides for the bridge to remain closed to navigation for five and a half consecutive hours in the morning and four and a half hours in the afternoon with an opening in the middle to pass vessels. There will be a two-hour notice to pass vessels in the evenings and a four-hour notice to pass vessels on weekends. This deviation will last for 33 consecutive days. The purpose of the closure is to conduct scheduled maintenance and repairs to the drawbridge.

DATES: This deviation is effective from 6:30 a.m. on February 2, 2015 through 5:30 p.m. on March 6, 2015.

ADDRESSES: The docket for this deviation, [USCG-2015-0003] is available at http://www.regulations.gov. Type the docket number in the “SEARCH” box and click “SEARCH.” Click on Open Docket Folder on the line associated with this rulemaking. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Jim Wetherington, Bridge Administration Branch, Coast Guard, telephone (504)671-2128, email james.r.wetherington@uscg.mil. If you have questions on viewing the docket, call Cheryl F. Collins, Program Manager, Docket Operations, telephone 202-366-9826.

SUPPLEMENTARY INFORMATION: The Louisiana Department of Transportation and Development (LDOTD) requested a temporary deviation from the normal operation of the drawbridge at 33 CFR 117.433 in order to perform scheduled maintenance and rehabilitation. This is necessary for the continued operation of the bridge. This deviation allows the draw of the SR433 Bridge across Bonfouca Bayou, mile 7.0, to remain closed to navigation for five and a half consecutive hours in the morning and four and a half hours in the afternoon with an opening in the middle to pass vessels. This deviation is effective from 6:30 a.m. to noon and then again from 1 p.m. through 5:30 p.m. daily from February 2 through March 6, 2015. There will be two-hour notice required in the evenings and a four-hour notice all day on the weekends.

Broadcast Notice to Mariners will be used to update mariners of any changes in this deviation.

The bridge has a vertical clearance of 8 feet above high water in the closed-to-navigation position and unlimited clearance above high water in the open-to-navigation position. There is 125 feet fender to fender horizontal clearance. Navigation on the waterway consists of tugs with tows, commercial fishing vessels and mainly recreational craft. There is no alternate route.

CEC (the contractor for the maintenance and rehab) and the Coast Guard have coordinated the closure with waterway users, industry, and other Coast Guard units. This date and this schedule were chosen to minimize the significant effects on vessel traffic.

In accordance with 33 CFR 117.35(e), the drawbridge must return to its regular operating schedule immediately at the end of the effective period of this temporary deviation. This deviation from the operating regulations is authorized under 33 CFR 117.35.

Dated: January 27, 2015.
David M. Frank,
Bridge Administrator, Eighth District.

[FR Doc. 2015-01826 Filed 1-30-15; 8:45 am]

BILLING CODE 9110-04-P